NATIONAL AERONAUTICS AND SPACE ADMINISTRATION

48 CFR Parts 1804, 1809, 1827, 1837 and 1852

RIN 2700-AD38; 2700-AD43; 2700-AD49

Personal Identity Verification, Release and Handling of Restricted Information, Protection of the Florida Manatee; Withdrawal

AGENCY: National Aeronautics and Space Administration.

ACTION: Proposed rules; withdrawal.

SUMMARY: NASA hereby provides notice of the cancellation of three proposed procurement rules without further action. These rules were not finalized in a timely manner due to outside circumstances that prevented their completion. Inasmuch as NASA is now in process of a major NASA FAR Supplement (NFS) rewrite, any changes from the withdrawn rules that continue to be needed will be processed as a new action under the rewrite project.

FOR FURTHER INFORMATION CONTACT: Leigh Pomponio, NASA, Office of Procurement, Contract Management Division (Suite 2P77), 300 E Street SW., Washington, DC 30546-0001; email: leigh.pomponio@nasa.gov.

SUPPLEMENTARY INFORMATION:

A. Background

NASA published three proposed rules to make changes to the NASA Federal Acquisition Supplement (NFS). Public comments were received on all three rules. However, circumstances at the time prevented NASA from issuing final rules. The purpose of this Notice is to advise that the proposed rules are cancelled without further action. At this time, NASA is in process of a major NFS rewrite, and any changes proposed under the cancelled rules, that are still required, will be included in new proposed rules related to the NFS rewrite.

The first cancelled proposed rule is identified by RIN 2700-AD38, Personal Identity Verification. It was published in the Federal Register at 73 FR 45679-45680. The second cancelled proposed rule is identified by RIN 2700-AD43, Release and Handling of Restricted Information. It was published in the Federal Register at 75 FR 9860-9864. This proposed rule was also listed in the Regulatory Agenda as RIN 2700-AD57. The third cancelled proposed rule is identified by RIN 2700-AD49, Protection of the Florida Manatee. It was published in the Federal Register at 73 FR 63420-63421.

William P. McNally,
Assistant Administrator for Procurement.

[FR Doc. 2012-23711 Filed 9-27-12; 8:45 am]

BILLING CODE 7510-01-P